DEPARTMENT OF HOMELAND SECURITY

Coast Guard

33 CFR Part 151

46 CFR Part 162

[USCG-2001-10486]

RIN 1625-AA32

Standards for Living Organisms in Ships' Ballast Water Discharged in U.S. Waters

AGENCY: Coast Guard, DHS.

ACTION: Notice of public meetings; request for comments; correction.

SUMMARY: The Coast Guard is issuing a correction to an earlier notice that published in the Federal Register on Thursday, October 22, 2009, in order to correct the location of the Oakland, CA, public meeting listed in that earlier notice. The public meetings will be held by the Coast Guard (USCG) regarding the Notice of Proposed Rulemaking (NPRM) entitled “Standards for Living Organisms in Ships' Ballast Water Discharged in U.S. Waters” that published in the Federal Register on Friday, August 28, 2009. For the Oakland, CA meeting, our earlier notice incorrectly listed the Marriott Oakland City Center, 1001 Broadway, Oakland, CA 94607. The correct location for the Oakland public meeting is the Hilton Oakland Airport, One Hegenberger Road, Oakland, CA 94621.

DATES: Public meetings will be held in the Oakland, CA (October 27, 2009) and New York, NY (October 29, 2009) areas to provide opportunities for oral comments. The comment period for the NPRM closes on December 4, 2009. All comments and related material submitted after a meeting must either be submitted to our online docket via http://www.regulations.gov on or before December 4, 2009 or reach the Docket Management Facility by that date.

ADDRESSES: The public meetings will be held at the Hilton Oakland Airport, One Hegenberger Road, Oakland, CA 94621, on October 27, 2009, and the Marriott New York Downtown, 85 West Street at Albany Street, New York, NY 10006, on October 29, 2009.

All meetings will be held from 9 a.m. until 4 p.m. local time unless otherwise noted. The meetings may conclude before the allotted time if all matters of discussion have been addressed.

You may submit written comments identified by docket number USCG-2001-10486 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2001-10486.

FOR FURTHER INFORMATION CONTACT: If you have questions on this proposed rulemaking, call or e-mail Mr. John Morris, Project Manager, Environmental Standards Division, U.S. Coast Guard Headquarters, telephone 202-372-1433, e-mail: John.C.Morris@uscg.mil. If you have questions on viewing or submitting material to the docket, call Ms. Renee V. Wright, Program Manager, Docket Operations, telephone 202-366-9826.

SUPPLEMENTARY INFORMATION: The Coast Guard published a Notice of Proposed Rulemaking (NPRM) in the Federal Register on Friday, August 28, 2009 (74 FR 44632), entitled “Standards for Living Organisms in Ships' Ballast Water Discharged in U.S. Waters.” In it, we stated our intention to hold public meetings, and to publish a notice with additional details regarding those public meetings as soon as the information was available (74 FR 44632).

On Monday, September 14, 2009, we published a Notice of Public Meeting to inform the public of the date for each public meeting, as well as the city in which those meetings will be held (74 FR 46964). That notice also stated that additional notice(s) would be published in the Federal Register as specific locations and details for these meetings were finalized.

On Tuesday, September 22, 2009, we published a Notice of Public Meeting with the specific locations and details for the first two of the six public meetings (74 FR 48190). Then, on Monday, September 28, 2009, we published a Notice of Public Meeting providing the same information for the second two public meetings and restating the details for the first two public meetings (74 FR 49355). This notice provides those details for the final two public meetings.

On Thursday, October 15, 2009, we published a Notice to extend the periods of public comment on the Notice of Proposed Rulemaking (NPRM) and the Draft Programmatic Environmental Impact Statement (DPEIS) to December 4, 2009 (74 FR 52941). On Thursday, October 22, 2009, we published a Notice of Public Meetings with locations and details for the Oakland, CA and New York, NY public meetings (74 FR 54533).

The location for the Oakland, CA meeting listed in the October 22, 2009 notice was incorrect. The October 27, 2009 meeting will be held at the Hilton Oakland Airport, One Hegenberger Road, Oakland, CA 94621. The phone number for the location is 510-635-5000.

The October 29, 2009 meeting will be held at the Marriott New York Downtown, 85 West Street at Albany Street, New York, NY 10006. The phone number for the location is 212-385-4900.

Live Webcasts (audio and video) of the public meetings will also be broadcast online at http://ballastwater.us/.

Written comments and related material may also be submitted to Coast Guard personnel specified at those meetings for inclusion in the official docket for this rulemaking.

Information on Service for Individuals With Disabilities

For information on facilities or services for individuals with disabilities or to request special assistance at the public meetings, contact Mr. John Morris at the telephone number or e-mail address indicated under the FOR FURTHER INFORMATION CONTACT section of this notice.

Dated: October 22, 2009.
Mark W. Skolnicki,
Acting Chief, Office of Regulations and Administrative Law, U.S. Coast Guard.

[FR Doc. E9-25807 Filed 10-22-09; 4:15 pm]

BILLING CODE 4910-15-P